DEPARTMENT OF TRANSPORTATION

Federal Aviation Administration

Public Notice For Waiver of Aeronautical Land-Use Assurance; Cleveland Hopkins International Airport, Cleveland, OH

AGENCY: Federal Aviation Administration, DOT.

ACTION: Notice of intent of waiver with respect to land.

SUMMARY: The Federal Aviation Administration (FAA) is considering a proposal to change a portion of the Cleveland Hopkins International Airport (CLE) from aeronautical use to non-aeronautical use and to authorize the sale of the airport property. The proposal consists of the sale of vacant, unimproved land owned by the City of Cleveland (City).

The City has requested from FAA a “Release from Federal agreement obligated land covenants” to sell portions of three (3) parcels. The property proposed for release was acquired by the City without Federal funding. There are no impacts to the airport by allowing the City to dispose of the vacant property. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 16, 2007.

ADDRESSES: Mr. David J. Welhouse, Program Manager, Detroit Airports District Office, 11677 South Wayne Road, Suite 107, Romulus, Michigan 48174.

FOR FURTHER INFORMATION CONTACT: Mr. David J. Welhouse, Program Manager, Detroit Airports District Office, 11677 South Wayne Road, Suite 107, Romulus, Michigan 48174. Telephone Number (734) 229-2952/FAX Number (734) 229-2950. Documents reflecting this FAA action may be reviewed at this same location or at Cleveland Hopkins International Airport, Cleveland, Ohio.

SUPPLEMENTARY INFORMATION: Following is a legal description of the property (portions of Parcel 029-38-002 (New Lot 5A), Parcel A, and Parcel B) located in Cleveland, Cuyahoga County, Ohio, and described as follows:

Description of That Portion of Parcel No. 029-38-002 (New Lot 5A) Being Released (10.161 Acres)

Situated in the City of Cleveland, County of Cuyahog and State of Ohio known as being part of Original Rockport Township Section 4 and also part of New Lot 5A as recorded in Volume 333, Page 59 of the Cuyahoga County Record of Maps and being more fully described as follows:

Commencing at the intersection of the centerline of Brookpark Road, 100 feet wide, as recorded in Volume 130, page 68 of the Cuyahoga County Record of Plats, with the original centerline of Old Grayton Road, 60.00 feet wide, said intersection being the Southeasterly corner of a parcel of land conveyed to the City of Cleveland by deed recorded in Volume 3433, Page 340 of Cuyahoga County Deed Records;

Thence Westerly along the Southerly line of land so conveyed to the City of Cleveland and the centerline of said Brookpark Road, South 89 degrees 43 minutes 19 seconds West, 232.87 feet to a point;

Thence North 00 degrees 16 minutes 41 seconds West, 50.00 feet to an iron pin set at the northerly right of way line of said Brookpark Road and the Principal Place of Beginning of the parcel herein described;

Thence Westerly along the Southerly line of said New Lot 5A and said northerly right of way line of Brookpark Road, South 89 degrees 43 minutes 19 seconds West, 471.47 feet to the Southwesterly corner of said Lot 5A, said corner also being on the easterly line of land conveyed to the United States of America by deed recorded in Volume 8041, Page 262 of Cuyahoga County Deed records and referenced by an iron pin monument box found South 00 degrees 38 minutes 24 seconds East, 50.00 feet from said corner;

Thence Northerly along the Westerly line of said New Lot 5A and the Easterly line of land so conveyed to the United States of America, North 00 degrees 38 minutes 24 seconds West, 595.97 feet to a K.S. capped iron pin found at the Northwesterly corner of said City of Cleveland property;

Thence North 88 degrees 46 minutes 18 seconds East, 612.48 feet to an iron pin set and the southerly line of New Lot 1A as recorded in Volume 333, Page 59 of said Cuyahoga County Record of Maps;

Thence, continuing North 88 degrees 26 minutes 58 seconds East, a distance of 380.04 feet to an iron pin set on the Westerly curved right of way line of Relocated Old Grayton Road;

Thence, Southerly along said Westerly curved right of way line of Relocated Old Grayton Road, along the arc of a curve bearing to the left, said curve having a radius of 410.00 feet, an included angle of 65 degrees 36 minutes 47 seconds, a chord which bears South 20 degrees 47 minutes 52 seconds West and measures 444.28 feet, a distance of 469.52 feet to an iron pin set;

Thence, South 89 degrees 43 minutes 19 seconds West, a distance of 357.34 feet, passing through an iron pin set at 157.34 feet, to an iron pin set;

Thence, South 00 degrees 16 minutes 41 seconds East, a distance of 200.00 feet to an iron pin set at the northerly right of way line of said Brookpark Road and the Principal Place of Beginning and containing 10.161 acres of land, more or less, as surveyed by Terence R. Allison, Professional Surveyor No. 7176 of Michael Benza & Associates, Inc., dated May 18, 2005, be the same more or less, but subject to all legal highways.

Description of Parcel A Being Released (1.2056 Acres)

Situated in the City of Cleveland, County of Cuyahoga and State of Ohio, known as being part of Original Middleburg Township Lot No. 3, Section No. 21, also being part of the original Cedar Point Road (vacated), also part of lands conveyed to the City of Cleveland by deed dated November 15, 1982 as recorded in Volume 15676, Page 651 of Cuyahoga County Recorder's Records, being more fully described as follows:

Commencing at an iron pin in a monument box found and used at the intersection of the centerline of Cedar Point Road, having a 60-foot Right-of-Way with the centerline of Lucille Avenue, having a 60-foot Right-of-Way, also being a point on the Western line of said Lot No. 3;

Thence along the centerline of said Cedar Point Road, bearing South 89 degrees 09 minutes 47 seconds East, a distance of 1206.17 feet to an iron pin in a monument box found and used at a point of curvature in the centerline of Cedar Point Road;

Thence along the centerline of said Cedar Point Road and along a tangent curve to the left, the long chord of which bears North 55 degrees 52 minutes 14 seconds East for a distance of 596.21 feet, having a radius of 520.24 feet and an arc length of 634.87 feet to a point of tangency therein, as witnessed by a ⅝-inch iron pin without I.D. cap, found South 04 degrees 30 minutes 28 seconds East, a distance of 0.45 feet;

Thence continuing along the centerline of Cedar Point Road, bearing North 20 degrees 54 minutes 57 seconds East, a distance of 161.51 feet to a point of curvature therein, as witnessed by a ½-inch iron pin without I.D. cap, found North 59 degrees 29 minutes 39 seconds West, a distance of 0.20 feet;

Thence continuing along the centerline of Cedar Point Road and along a tangent curve to the right, the long chord of which bears North 31 degrees 44 minutes 19 seconds East for a distance of 153.56 feet, having a radius of 408.89 feet and an arc length of 154.48 feet to a point on the Northern terminus of Cedar Point Road;

Thence along the Northern terminus of Cedar Point Road, bearing South 45 degrees 11 minutes 14 seconds East, a distance of 30.03 feet to a point on the Eastern Right-of-Way line of Cedar Point Road, also being a point on a Northern corporation line of the City of Cleveland, as witnessed by a ⅝-inch iron pin without I.D. cap, found North 50 degrees 11 minutes 03 seconds West, a distance of 0.61 feet and the Principal Place of Beginning of the parcel herein described;

Thence along the Southeasterly projection of the Northern terminus of Cedar Point Road, bearing South 45 degrees 11 minutes 14 seconds East, a distance of 69.19 feet to a point ont he Eastern Corporation line of the City of Cleveland;

Thence parallel to the centerline of Cedar Point Road and along a non-tangent curve to the left, the long chord of which bears South 31 degrees 22 minutes 42 seconds West for a distance of 112.50 feet, having a radius of 309.78 feet and an arc length of 113.13 feet to a point of tangency, as witnessed by a ⅝-inch iron pin with I.D. cap marked NASA, found and used;

Thence continuing parallel to the centerline of Cedar Point Road, bearing South 20 degrees 54 minutes 57 seconds West, a distance of 161.51 feet to an iron pin set;

Thence continuing parallel to the centerline of Cedar Point Road, along a tangent curve to the right, the long chord of which bears South 47 degrees 07 minutes 17 seconds West for a distance of 547.01 feet, having a radius of 619.35 feet, and an arc length of 566.56 feet to an iron pin set on the Southeastern line of lands conveyed to Cleveland Electric Illuminating by deed dated March 21, 2002 as recorded in AFN 200203211027 of Cuyahoga County Recorder's Records, also being a point on a Northern Corporation line of the City of Cleveland;

Thence along said Corporation line and the Southeastern line of said lands of Cleveland Electric Illuminating and the Northeasterly projection thereof, bearing North 28 degrees 52 minutes 58 seconds East, a distance of 93.37 feet to a point on the Southeastern line of lands conveyed to the United States of America by deed dated August 30, 1990 as recorded in Volume 90-5269, Page 42 of Cuyahoga County Recorder's Records, also being a point on the centerline of the aforesaid original Cedar Point Road (vacated), as witnessed by a ⅝-inch iron pin with I.D. cap marked C.H.I.A. found South 29 degrees 22 minutes 57 seconds East, a distance of 0.12 feet;

Thence along the centerline of original Cedar Point Road (vacated) and a Southern line of lands conveyed to the United States of America by Recorded in Volume 9491, Page 678 of Cuyahoga County Recorder's Records, bearing North 86 degrees 18 minutes 46 seconds East, a distance of 55.16 feet to an angle point therein as witnessed by a ⅝-inch iron pin with I.D. cap marked C.H.I.A. found South 74 degrees 16 minutes 18 seconds West, a distance of 1.17 feet;

Thence continuing along the centerline of original Cedar Point Road (vacated) and a Southern line of lands conveyed to the United States of America (Volume 9491, Page 678), bearing North 35 degrees 18 minutes 46 seconds East, a distance of 75.14 feet to a point thereon, also being a point on the Eastern Right-of-Way line of Cedar Point Road, also being a point on the Northern Corporation line of the City of Cleveland, as witnessed by a ⅝-inch pin with I.D. cap marked C.H.I.A. found south 45 degrees 27 minutes 20 seconds West, a distance of 4.33 feet;

Thence continuing along said Corporation line and the Eastern Right-of-Way line of Cedar Point Road and along a tangent curve to the left, the long chord of which bears North 37 degrees 35 minutes 44 seconds East for a distance of 315.86 feet, having a radius of 550.24 feet, and an arc length of 320.37 feet to a point of tangency, as witnessed by a ⅝-inch iron pin with I.D. cap marked C.H.I.A. found South 25 degrees 50 minutes 03 seconds West, a distance of 0.32 feet;

Thence continuing along said Corporation line and the Eastern Right-of-Way line of Cedar Point Road, bearing North 20 degrees 54 minutes 57 seconds East, a distance of 50.61 feet to a point thereon, also being a point on the centerline of original Cedar Point Road (vacated) and a Southern line of the aforesaid lands of the United States of America (Volume 9491, Page 678), as witnessed by a ⅝-inch iron pin with I.D. cap marked C.H.I.A. found North 22 degrees 20 minutes 07 seconds East, a distance of 3.62 feet;

Thence along the centerline of original Cedar Point Road (vacated) and a Southern line of said lands of the United States of America (Volume 9491, Page 678), bearing North 35 degrees 18 minutes 46 seconds East, a distance of 22.23 feet to an angle point therein as witnessed by a ⅝-inch iron pin with I.D. cap marked C.H.I.A. found South 57 degrees 49 minutes 09 seconds West, a distance of 2.23 feet;

Thence continuing along the centerline of original Cedar Point Road (vacated) and a Southern line of said lands of the United States of America (Volume 9491, Page 678), bearing North 00 degrees 39 minutes 46 seconds East, a distance of 15.97 feet to a point on the Northern Corporation line of the City of Cleveland and the Eastern Right-of-Way line of Cedar Point Road, as witnessed by a ⅝-inch iron pin with I.D. cap marked C.H.I.A. found South 20 degrees 16 minutes 13 seconds West, a distance of 5.32 feet;

Thence along the said Northern Corporation line and the Eastern Right-of-Way line of Cedar Point Road, bearing North 20 degrees 54 minutes 57 seconds East, 74.39 feet to a point of curvature thereon, as witnessed by a ⅝-inch iron pin with I.D. cap marked C.H.I.A. found North 49 degrees 57 minutes 54 seconds West, a distance of 0.24 feet;

Thence continuing along the said Northern Corporation line and the Eastern Right-of-Way line of Cedar Point Road and along a tangent curve to the right, the long chord of which bears North 31 degrees 38 minutes 58 seconds East for a distance of 141.13 feet, having a radius of 378.89 feet, and an arc length of 141.96 feet to a point thereon, also being a point on the Northern terminus of Cedar Point Road and the Principal Place of Beginning and containing 1.2056 Acres of land, more or less but subject to all legal highways and all covenants and agreements of record.

Description of Parcel B Being Released (0.0790 Acres)

Situated in the City of Brook Park, County of Cuyahoga and State of Ohio, known as being part of Original Middleburg Township Lot No. 3, Section No. 21, also being part of the original Cedar Point Road (vacated), also part of lands conveyed to the City of Cleveland by deed dated November 15, 1982 as recorded in Volume 15676, Page 651 of Cuyahoga County Recorder's Records, being more fully described as follows:

Commencing at an iron pin in a monument box found and used at the intersection of the centerline of Cedar Point Road, having a 60-foot Right-of-Way, with the centerline of Lucille Avenue, having a 60-foot Right-of-Way, also being a point on the Western line of said Lot No. 3;

Thence along the centerline of said Cedar Point Road, bearing South 89 degrees 09 minutes 47 seconds East, a distance of 1206.17 feet to an iron pin in a monument box found and used at a point of curvature in the centerline of Cedar Point Road;

Thence along the centerline of said Cedar Point Road and along a tangent curve to the left, the long chord of which bears North 55 degrees 52 minutes 14 seconds East for a distance of 596.21 feet, having a radius of 520.24 feet and an arc length of 634.87 feet to a point of tangency therein, as witnessed by a ⅝-inch iron pin without I.D. cap, found South 04 degrees 30 minutes 28 seconds East, a distance of 0.45 feet;

Thence continuing along the centerline of Cedar Point Road, bearing North 20 degrees 54 minutes 57 seconds East, a distance of 161.51 feet to a point of curvature therein, as witnessed by a ½-inch iron pin without I.D. cap, found North 59 degrees 29 minutes 39 seconds West, a distance of 0.20 feet;

Thence continuing along the centerline of Cedar Point Road and along a tangent curve to the right, the long chord of which bears North 31 degrees 44 minutes 19 seconds East for a distance of 153.56 feet, having a radius of 408.89 feet and an arc length of 154.48 feet to a point on the Northern terminus of Cedar Point Road;

Thence along the Northern terminus of Cedar Point Road, bearing North 45 degrees 11 minutes 14 seconds West, a distance of 30.02 feet to a point on the Western Right-of-Way line of Cedar Point Road and the Principal Place of Beginning of the parcel herein described;

Thence along the Western Right-of-Way of Cedar Point Road and along a non-tangent curve to the left, the long chord of which bears South 36 degrees 32 minutes 30 seconds West for a distance of 94.40 feet, having a radius of 438.89 feet, and an arc length of 94.59 feet to a point thereon, also being a point on the centerline of original Cedar Point Road (vacated) and a Southern line of lands conveyed to the United States of America by deed Recorded in Volume 9491, Page 678 of Cuyahoga County Recorder's Records;

Thence continuing along said centerline of original Cedar Point Road (vacated) and a Southern line of lands conveyed to the United States of America (Volume 9491, Page 678) bearing North 00 degrees 39 minutes 46 seconds East, a distance of 130.20 feet to an angle point therein;

Thence co-linear to the aforesaid Northern terminus of Cedar Point Road, bearing South 45 degrees 11 minutes 14 seconds East, a distance of 77.11 feet to a point on the Western Right-of-Way line of Cedar Point Road; and the Principal Place of Beginning and containing 0.0790 acres of land, more or less but subject to all legal highways and all covenants and agreements of record.

Issued in Romulus, Michigan on May 21, 2007.
John L. Mayfield,
Acting Manager, Detroit Airports District Office, FAA, Great Lakes Region.

[FR Doc. 07-2940 Filed 6-14-07; 8:45 am]

BILLING CODE 4910-13-M